OFFICE OF MANAGEMENT AND BUDGET

OMB Final Sequestration Report to the President and Congress for Fiscal Year 2013

AGENCY: Executive Office of the President, Office of Management and Budget.

ACTION: Notice of availability of the OMB Final Sequestration Report to the President and Congress for FY 2013.

SUMMARY: Public Law 112-25, the Budget Control Act of 2011 amended the Balanced Budget and Emergency Deficit Control Act of 1985 (BBEDCA) by reinstating the discretionary spending limits that had expired after 2002. These limits were further revised by P.L. 112-240, the American Taxpayer Relief Act of 2012 (ATRA). Section 254 of BBEDCA requires the Office of Management and Budget (OMB) to issue a Final Sequestration Report after Congress ends a session to determine whether or not a sequestration of discretionary budget authority is required based on OMB scoring of enacted appropriations legislation against those limits. ATRA, however, delayed the release of this report. Based on its scoring of enacted 2013 appropriations, OMB has determined that a sequestration of discretionary budget authority pursuant to section 251 of BBEDCA is not required. As required, these estimates rely on the same economic and technical assumptions used in the President's 2013 Budget, which the Administration transmitted to the Congress on February 13, 2012.

DATES: Effective Date: Sec. 254(b). SUBMISSION AND AVAILABILITY OF REPORTS.—Each report required by this section shall be submitted, in the case of CBO, to the House of Representatives, the Senate and OMB and, in the case of OMB, to the House of Representatives, the Senate, and the President on the day it is issued. On the following day a notice of the report shall be printed in the Federal Register.

ADDRESSES: The OMB Sequestration Reports to the President and Congress is available on-line on the OMB home page at: http://www.whitehouse.gov/omb/legislative_reports/sequestration.

FOR FURTHER INFORMATION CONTACT: Thomas Tobasko, 6202 New Executive Office Building, Washington, DC 20503, Email address: ttobasko@omb.eop.gov, telephone number: (202) 395-5745, FAX number: (202) 395-4768 or Jenny Winkler Murray, 6236 New Executive Office Building, Washington, DC 20503, Email address: jwinkler@omb.eop.gov, telephone number: (202) 395-7763, FAX number: (202) 395-4768. Because of delays in the receipt of regular mail related to security screening, respondents are encouraged to use electronic communications.

Jeffrey D. Zients,
Acting Director.

[FR Doc. 2013-08816 Filed 4-15-13; 8:45 am]

BILLING CODE P